DEPARTMENT OF LABOR

Employment and Training Administration

[TA-W-65,080]

Santoku America, Incorporated; Tolleson, AZ; Notice of Termination of Investigation

Pursuant to Section 221 of the Trade Act of 1974, as amended, an investigation was initiated on February 2, 2009 in response to a worker petition filed by a company official on behalf of workers of Santoku America, Incorporated, Tolleson, Arizona.

The petitioner has requested that the petition be withdrawn. Consequently, the investigation has been terminated.

Signed at Washington, DC this 4th day of February 2009.
Elliott S. Kushner,
Certifying Officer, Division of Trade Adjustment Assistance.

[FR Doc. E9-3028 Filed 2-11-09; 8:45 am]

BILLING CODE 4510-FN-P